DEPARTMENT OF THE INTERIOR

Bureau of Land Management

[LLOR936000.L1440000.ET0000.17XL1109AF; HAG 17-0017; OROR-68370]

Notice of Public Meeting for Amended Proposed Withdrawal; Oregon

AGENCY: Bureau of Land Management, Interior.

ACTION: Notice of public meeting.

SUMMARY: A Notice of Amended Proposed Withdrawal was published in the Federal Register (FR) on September 30, 2016 for approximately 5,216.18 acres of Bureau of Land Management (BLM) managed public domain and revested Oregon California Railroad lands and 95,805.53 acres of National Forest System lands (80 FR 37015). The amended application increased the proposed withdrawal term from 5 years to 20 years, and added the purpose of protecting the Southwestern Oregon watershed from possible adverse effects of mineral development. The amended application does not affect the current segregation, which expires June 28, 2017, unless the application is denied or canceled or the withdrawal is approved prior to that date. This notice announces the date, time, and location of a public meeting to be held for the amended application.

DATES AND ADDRESSES: A public meeting will be held on Tuesday, November, 15, 2016, from 6:30 pm to 8 pm at Brookings-Harbor High School, 625 Pioneer Road, Brookings, OR 97415.

FOR FURTHER INFORMATION CONTACT: Jacob Childers, BLM Oregon/Washington State Office, 503-808-6225; Candice Polisky, USFS Pacific Nort hwest Region, 503-808-2479. Please send email inquiries to blm_or_wa_withdrawals@blm.gov. Persons who use a telecommunications device for the deaf (TDD) may call the Federal Information Relay Service (FIRS) at 1-800-877-8339 to contact either of the above individuals. The FIRS is available 24 hours a day, 7 days a week. You will receive a reply during normal business hours.

SUPPLEMENTARY INFORMATION: The FR notice published on September 30, 2016 stated that an opportunity for public meeting would be afforded in connection with the proposed withdrawal. The public will have the opportunity to verbally comment or provide written comments at the public meeting. The publication of the FR notice on September 30, 2016 was the official start of a 90-day public comment period that extends through December 29, 2016. Written comments should be sent to the Bureau of Land Management, Oregon State Office, P.O. Box 2965, Portland, OR 97208-2965, or by email at blm_or_wa_withdrawals@blm.gov.

The meeting will be held in accordance with the regulations set forth in 43 CFR part 2310.3-1.

Leslie A. Frewing,
Acting Chief, Branch of Land, Mineral, and Energy Resources.

[FR Doc. 2016-24743 Filed 10-12-16; 8:45 am]

BILLING CODE 3411-15-P